DEPARTMENT OF COMMERCE

Bureau of Industry and Security

15 CFR Parts 738 and 740

[Docket No. 040330104-4104-01]

RIN 0694-AC83

Addition of Aruba, Netherlands Antilles, East Timor, and Democratic Republic of the Congo, and Update of Country Names, in the Export Administration Regulations

AGENCY: Bureau of Industry and Security, Commerce.

ACTION: Final rule.

SUMMARY: The Bureau of Industry and Security (BIS) is amending the Export Administration Regulations (EAR) to update the Country Chart to add East Timor and the Democratic Republic of the Congo, to establish separate export licensing requirements for Aruba and Netherlands Antilles, and to update references to certain countries to reflect their officially recognized names.

DATES: This rule is effective April 20, 2004.

FOR FURTHER INFORMATION CONTACT: Bernie Kritzer, Office of Strategic Trade and Foreign Policy Controls, Bureau of Export Administration, Telephone: (202) 482-4196.

SUPPLEMENTARY INFORMATION: This final rule adds East Timor, Democratic Republic of the Congo, Aruba and Netherlands Antilles as separate entries on the Commerce Country Chart in Supplement No. 1 to part 738 of the EAR for export licensing purposes. East Timor attained independence from Indonesia on May 20, 2002. Democratic Republic of the Congo became the successor nation to Zaire in 1997. Aruba and the Netherlands Antilles, although dependencies of the Netherlands, maintain their own separate export control systems and therefore are treated as distinct from the Netherlands for export control purposes. The EAR now list two countries with “Congo” in their names: the Republic of the Congo, the capital city of which is Brazzaville, and the Democratic Republic of the Congo, the capital city of which is Kinshasa. This segregation of Aruba and Netherlands Antilles from the Netherlands is not meant as a departure from current export control policy as to the treatment of dependencies. The EAR will continue to treat territories, possessions or departments of foreign countries as having the same licensing requirements as their sovereigns on the Commerce Country Chart when such territories, possessions or departments are not separately listed on the Commerce Country Chart.

This final rule also updates references to certain countries in the EAR to reflect their officially recognized names, including Macedonia (the Former Yugoslav Republic of), Micronesia (Federated States of), Saint Vincent and the Grenadines, Samoa, Serbia and Montenegro, and Antigua and Barbuda. Specifically, this rule amends the EAR as follows:

1. In Supplement No. 1 to part 738 of the EAR, Aruba, Congo (Democratic Republic of the), East Timor, and Netherlands Antilles are added to the Commerce Country Chart. As noted on the Chart, licensing requirements for exports and reexports to Aruba, Congo (Democratic Republic of the), East Timor and Netherlands Antilles are imposed, as applicable, on items subject to the EAR controlled for the following reasons: Chemical and biological weapons, nuclear nonproliferation, national security, missile technology, regional stability, and crime control. These controls reflect the status of these countries with respect to membership in multilateral regimes or in NATO. Zaire is deleted from the Commerce Country Chart. In order to reflect officially recognized country names, Congo (Republic of the), Macedonia (Former Yugoslav Republic of), Micronesia (Federated States of), Saint Vincent and the Grenadines, Samoa, and Serbia and Montenegro replace Congo, FYROM (Macedonia), Micronesia, St. Vincent, Western Samoa, and Yugoslavia (Serbia and Montenegro), Federal Republic of, respectively.

2. In Supplement No. 1 to part 740 of the EAR, Aruba, Congo (Democratic Republic of the), East Timor, and Netherlands Antilles are added to Country Group B. Zaire is removed from Country Group B. Antigua and Barbuda, Congo (Republic of the), Samoa, and Serbia and Montenegro replace, respectively, Antigua, Barbuda, Congo, Western Samoa, and Yugoslavia (Serbia and Montenegro), Federal Republic of.

3. In § 740.7 of the EAR, Aruba, Congo (Democratic Republic of the), East Timor, and Netherlands Antilles are added under Computer Tier 1 for License Exception CTP purposes. Bahamas (The), Congo (Republic of the), Saint Vincent and the Grenadines, and Samoa replace Bahamas, Congo, St. Vincent and Grenadines, and Western Samoa, respectively, under Computer Tier 1. Zaire is removed from the Computer Tier 1 category. Serbia and Montenegro replaces Federal Republic of Yugoslavia (Serbia and Montenegro) under Computer Tier 3.

Although the Export Administration Act expired on August 20, 2001, Executive Order 13222 of August 17, 2001 (3 CFR, 2001 Comp., p. 783 (2002)), as extended by the Notice of August 7, 2003 (68 FR 47833, August 11, 2003), continues the Regulations in effect under the International Emergency Economic Powers Act.

Rulemaking Requirements

1. This final rule has been determined to be not significant for purposes of E.O. 12866.

2. Notwithstanding any other provision of law, no person is required to respond to, nor shall any person be subject to a penalty for failure to comply with a collection of information, subject to the requirements of the Paperwork Reduction Act of 1995 (44 U.S.C. 3501 et seq.) (PRA), unless that collection of information displays a currently valid Office of Management and Budget (OMB) Control Number. This rule involves a collection of information subject to the PRA. This collection has been approved by the Office of Management and Budget under control number 0694-0088, “Multi-Purpose Application,” which carries a burden hour estimate of which carries a burden hour estimate of 58 minutes for a manual or electronic submission. Send comments regarding these burden estimates or any other aspect of these collections of information, including suggestions for reducing the burden, to David Rostker, OMB, by e-mail to David_Rostker@omb.eop.gov, or by fax to (202) 395-7285; and to the Regulatory Policy Division, Bureau of Industry and Security, Department of Commerce, P.O. Box 273, Washington, DC 20044.

3. This rule does not contain policies with Federalism implications as this term is defined under Executive Order 13132.

4. The provisions of the Administrative Procedure Act (5 U.S.C. 553) requiring notice of proposed rulemaking, the opportunity for public participation, and a delay in effective date, are inapplicable because this regulation involves a military and foreign affairs function of the United States (Sec. 5 U.S.C. 553(a)(1)). Further, no other law requires that a notice of proposed rulemaking and an opportunity for public comment be given for this final rule. Because a notice of proposed rulemaking and an opportunity for public comment are not required to be given for this rule under 5 U.S.C. 553 or by any other law, the analytical requirements of the Regulatory Flexibility Act (5 U.S.C. 601 et seq.) are not applicable.

Therefore, this regulation is issued in final form. Although there is no formal comment period, public comments on this regulation are welcome on a continuing basis. Comments should be submitted to Matthew Blaskovich, Regulatory Policy Division, Bureau of Industry and Security, Department of Commerce, P.O. Box 273, Washington, DC 20044.

List of Subjects

15 CFR Part 738

Exports, Foreign trade.

15 CFR Parts 740

Administrative practice and procedure, Exports, Foreign trade, Reporting and record keeping requirements.

Accordingly, parts 738 and 740 of the Export Administration Regulations (15 CFR parts 730-799) are amended as follows:

PART 738—[AMENDED]

1. The authority citation for 15 CFR part 738 continues to read as follows:

Authority: 50 U.S.C. app. 2401 et seq.; 50 U.S.C. 1701 et seq.; 10 U.S.C. 7420; 10 U.S.C. 7430(e); 18 U.S.C. 2510 et seq.; 22 U.S.C. 287c; 22 U.S.C. 3201 et seq.; 22 U.S.C. 6004; 30 U.S.C. 185(s), 185(u); 42 U.S.C. 2139a; 42 U.S.C. 6212; 43 U.S.C. 1354; 46 U.S.C. app. 466c; 50 U.S.C. app. 5; Sec. 901-911, Pub. L. 106-387; Sec 221, Pub. L. 107-56; E.O. 13026, 61 FR 58767, 3 CFR, 1996 Comp., p. 228; E.O. 13222, 66 FR 44025, 3 CFR, 2001 Comp., p. 783; Notice of August 7, 2003, 3 CFR, 2003 Comp., p. 328.

2. Supplement No. 1 to Part 738 is amended by:

a. Adding “Aruba”, “Congo (Democratic Republic of the)”, “East Timor”, and “Netherlands Antilles” in alphabetical order as set forth below;

b. Revising “Congo”, “FYROM (Macedonia)”, “Micronesia”, “St. Vincent and Grenadines”, “Western Samoa”, and “Yugoslavia (Serbia and Montenegro), Federal Republic of” to read “Congo (Republic of the)”, “Macedonia (The Former Yugoslav Republic of)”, “Micronesia (Federated States of)”, “Saint Vincent and the Grenadines”, “Samoa”, and “Serbia and Montenegro”, respectively and placing them in approprate alphabetical order; and

c. Removing “Zaire.”

Supplement No. 1 to Part 738—Commerce Country Chart
[Reason for control]
Countries | Chemical & biological weapons: CB 1 | Chemical & biological weapons: CB 2 | Chemical & biological weapons: CB 3 | Nuclear non- proliferation: NP 1 | Nuclear non- proliferation: NP 2 | National security: NS 1 | National security: NS 2 | Missile tech: MT 1 | Regional stability: RS 1 | Regional stability: RS 2 | Firearms convention: FC 1 | Crime control: CC 1 | Crime control: CC 2 | Crime control: CC 3 | Anti-terrorism: AT 1 | Anti-terrorism: AT 2
Aruba | X | X |  | X |  | X | X | X | X | X |  | X |  | X |  |
* * * * * * *
Congo (Democratic Republic of the) | X | X |  | X |  | X | X | X | X | X |  | X |  | X |  |
* * * * * * *
East Timor | X | X |  | X |  | X | X | X | X | X |  | X |  | X |  |
* * * * * * *
Netherlands Antilles | X | X |  | X |  | X | X | X | X | X |  | X |  | X |  |
* * * * * * *

PART 740—[AMENDED]

3. The authority citation for 15 CFR part 740 continues to read as follows:

Authority: 50 U.S.C. app. 2401 et seq.; 50 U.S.C. 1701 et seq .; Sec. 901-911, Pub. L. 106-387; E.O. 13026, 61 FR 58767, 3 CFR, 1996 Comp., p. 228; E.O. 13222, 66 FR 44025, 3 CFR,2001 Comp., p. 783; Notice of August 7, 2003, 3 CFR Comp., p. 328.

4. Section 740.7, paragraph (c) (1), is amended by revising the following phrases:

a. “Argentina, Australia, Austria, Bahamas” to read “Argentina, Aruba, Australia, Austria, Bahamas (The)”;

b. “Colombia, Congo, Costa Rica, Cote d'Ivoire” to read “Colombia, Congo (Democratic Republic of the), Congo (Republic of the), Costa Rica, Cote d'Ivoire”;

c. “Dominican Republic, Ecuador, El Salvador” to read “Dominican Republic, East Timor, Ecuador, El Salvador”;

d. “Nepal, Netherlands, New Zealand, Nicaragua, Niger” to read “Nepal, Netherlands, Netherlands Antilles, New Zealand, Nicaragua, Niger”;

e. “St. Lucia, St. Vincent and Grenadines, Sao Tome & Principe, San Marino, Senegal, Seychelles” to read “St. Lucia, St. Vincent and the Grenadines, Sao Tome & Principe, Samoa, San Marino, Senegal, Seychelles”;

f. “ Venezuela, Western Sahara, Western Samoa” to read “ Venezuela, Western Sahara”; and

g. “Zaire, Zambia, and Zimbabwe” to read “Zambia, and Zimbabwe”.

5. Section 740.7, paragraph (d) (1), is amended by revising the following phrases:

a. “Oman, Pakistan, Qatar, Russia, Saudi Arabia” to read “Oman, Pakistan, Qatar, Russia, Serbia and Montenegro, Saudi Arabia”; and

b. “ Vietnam, Yemen, and Federal Republic of Yugoslavia (Serbia and Montenegro)” to read “Vietnam, and Yemen.”

6. Supplement No. 1 to part 740, Country Group B, is amended by:

a. Adding, in alphabetical order, “Antigua and Barbuda”, “Aruba”, “Congo (Democratic Republic of the)”, “Congo (Republic of the)”, “East Timor”, “Netherlands Antilles”, “Samoa”, “Serbia and Montenegro” to Country Group B;

b. Removing “Antigua”, “Barbuda”, “Congo”, “Western Samoa”, “Yugoslavia (Serbia and Montenegro), Federal Republic of” and “Zaire” from Country Group B;

c. Revising the phrase “Bahamas” to read “The Bahamas”;

d. Revising the phrase “Macedonia, the Former Yugoslav Republic of” to read “Macedonia, The Former Yugoslav Republic of”; and

e. Revising the phrase “Saint Vincent” to read “Saint Vincent and the Grenadines”.

Dated: April 12, 2004.
Peter Lichtenbaum,
Assistant Secretary, for Export Administration.

[FR Doc. 04-8807 Filed 4-19-04; 8:45 am]

BILLING CODE 3510-33-P